DEPARTMENT OF TRANSPORTATION

Federal Aviation Administration

RTCA Special Committee 160; Minimum Operational Performance Standards for 406MHz Emergency Locator Transmitters (ELT)

Pursuant to section 10(a) (2) of the Federal Advisory Committee Act (Pub. L. 92-463, 5 U.S.C., appendix 2), notice is hereby given for Special Committee (SC)-160 meeting to be held April 3, 2001, starting at 9:00 a.m. The meeting will be held at the RTCA Inc., 1140 Connecticut Ave., NW, Suite 1020, Washington, DC 20036.

The agenda will include: (1) Welcome and Introductory Remarks; (2) Review Meeting Agenda; (3) History of Cospas-Sarsat and Review of new 406.028 MHz frequency recommendation—NOAA; (4) Review and Approve Proposed Change 3 to RTCA DO-204, Paper No. 054-01/SC 160-003, (5) Other Business; (6) Date and Location of Next Meeting; (7) Closing.

Attendance is open to the interested public but limited to space availability. With the approval of the chairman, members of the public may present oral statements at the meeting. Persons wishing to present statements or obtain information should contact the RTCA Secretariat, 1140 Connecticut Avenue, NW., Suite 1020, Washington, DC, 20036; (202) 833-9339 (phone); (202) 833-9434 (fax), or by http://www.rtca.org (web site). Members of the public may present a written statement to the committee at any time.

Issued in Washington, DC, on March 5, 2001.
Janice L. Peters,
Designated Official.

[FR Doc. 01-6236 Filed 3-12-01; 8:45 am]

BILLING CODE 4910-13-M